DEPARTMENT OF COMMERCE

National Oceanic and Atmospheric Administration

[I.D. 042402A]

Pacific Fishery Management Council; Public Meeting

AGENCY: National Marine Fisheries Service (NMFS), National Oceanic and Atmospheric Administration (NOAA), Commerce.

ACTION: Notice of cancellation of public meeting.

SUMMARY: The Monday, April 29, 2002, meeting of an ad hoc committee of the Pacific Fishery Management Council (Council) has been cancelled.

DATES: The meeting was scheduled to convene at 8 a.m. on Monday, April 29, 2002, and adjourn the same day when business is completed.

ADDRESSES: The meeting was to occur in Suite C of the California Department of Fish and Game Offices at 4665 Lampson Avenue, Los Alamitos, California 90720, 562-342-7114.

Council address: 7700 NE Ambassador Place, Suite 200, Portland, Oregon 97220-1384.

FOR FURTHER INFORMATION CONTACT: Mr. Jim Seger, Fishery Economics Staff Officer, telephone: 503-326-6352.

SUPPLEMENTARY INFORMATION: The initial notice was published on April 15, 2002 (see 67 FR 18175, April 15, 2002). The meeting may or may not be rescheduled for a later date. The purpose of the meeting was to review California Fish and Game Commission proposals for the creation of marine reserves for the Channel Islands National Marine Sanctuary.

Dated: April 24, 2002.
Theophilus R. Brainerd,
Acting Director, Office of Sustainable Fisheries, National Marine Fisheries Service.

[FR Doc. 02-10490 Filed 4-26-02; 8:45 am]

BILLING CODE 3510-22-S